DEPARTMENT OF DEFENSE

Department of the Army

Availability for Non-Exclusive, Exclusive, or Partially Exclusive Licensing of U.S. Patent Concerning System and Method for Rapid Dissemination of Image Products

AGENCY: Department of the Army, DoD.

ACTION: Notice.

SUMMARY: In accordance with applicable laws and regulations, announcement is made of the availability for licensing of the invention set forth in U.S. Patent No. 9,106,715 titled “System and Method for Rapid Dissemination of Image Products,” issued on August 11, 2015. The United States Government, as represented by the Secretary of the Army, has rights in this invention.

FOR FURTHER INFORMATION CONTACT: Ms. Joan Gilsdorf, Patent Attorney, SDMC-JA, Bldg. 5220, Von Braun Complex, Redstone Arsenal, AL 35898, email: christine.j.gilsdorf.civ@mail.mil (256) 955-3213.

SUPPLEMENTARY INFORMATION: The invention pertains to rapid dissemination of image products. A data consumer display device sends a geospatial request for a map image of a specific area of interest to a rapid image distribution system (RIDS), which forwards the request to a sensor ground station. The sensor ground station processes data received from a sensor platform and sends the processed data to a georectification processor. The georectification processor creates georectified data and sends the georectified data to the RIDS, which further processes the data, exposing it to data consumers using network optimized data services (e.g., KML/KMZ, TMS, GeoRSS, image chipper) based on geographic coordinates provided in the query that is a smaller subset of the sensor data. The RIDS sends the image product to the data consumer display device for display.

Brenda S. Bowen,
Army Federal Register Liaison Officer.

[FR Doc. 2018-14613 Filed 7-6-18; 8:45 am]

BILLING CODE 5001-03-P